INTERNATIONAL TRADE COMMISSION

[Investigations Nos. 731-TA-474 and 475 (Review)]

Chrome-Plated Lug Nuts From China and Taiwan

AGENCY: International Trade Commission.

ACTION: Cancellation of the hearing for the subject reviews.

EFFECTIVE DATE: August 24, 2000.

FOR FURTHER INFORMATION CONTACT: Vera Libeau (202-205-3176), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov).

SUPPLEMENTARY INFORMATION: On June 14, 2000 (65 FR 37408), the Commission published a notice in the Federal Register scheduling full five-year reviews concerning the antidumping duty orders on chrome-plated lug nuts from China and Taiwan. The schedule provided for a public hearing on August 31, 2000. Requests to appear at the hearing were due to be filed on or before August 18, 2000. No requests were received. Since there was no request by any party to appear at the public hearing, the Commission determined to cancel the hearing on chrome-plated lug nuts from China and Taiwan. The Commission unanimously determined that no earlier announcement of this cancellation was possible.

For further information concerning these reviews, see the Commission's notice cited above and the Commission's Rules of Practice and Procedure, part 201, subparts A through E (19 CFR part 201), and part 207, subparts A and F (19 CFR part 207).

Authority: These reviews are being conducted under authority of title VII of the Tariff Act of 1930; this notice is published pursuant to section 201.35 and 207.62 of the Commission's rules.

Issued: August 24, 2000.
By order of the Commission.
Donna R. Koehnke,
Secretary.

[FR Doc. 00-22193 Filed 8-29-00; 8:45 am]

BILLING CODE 7020-02-U